SURFACE TRANSPORTATION BOARD

[Docket No. FD 36625]

Omni River Ridge, LLC d/b/a River Ridge Railroad—Operation Exemption—in Clark County, Ind.

Omni River Ridge, LLC d/b/a River Ridge Railroad (RRR), a noncarrier controlled by short line holding company OmniTRAX Holdings Combined, Inc.

(OmniTRAX) has filed a verified notice of exemption pursuant to 49 CFR 1150.31 to operate a segment of track that extends from a point of connection with a line of CSX Transportation, Inc., Hoosier Subdivision, Branch NABB BR, at milepost B 0041.950 at Charlestown, Ind., roughly southward for 4,980 feet to the north end of the wye track (proximate to Patrol Road), a distance of approximately 0.943 miles in Clark County, Ind. (the Line).

This transaction is related to a concurrently filed verified notice of exemption in OmniTRAX Holdings Combined, Inc.—Continuance in Control Exemption—Omni River Ridge, LLC d/b/a River Ridge Railroad, Docket No. FD 36626, in which OmniTRAX and HGS Railway Holdings seek to continue in control of RRR upon RRR's becoming a Class III rail carrier.

According to the verified notice, the Line was historically used for non-common carrier railroad purposes. RRR states that it has acquired the title to the assets that comprise the Line and seeks Board authorization to initiate railroad common carrier operations over the Line.

RRR states that the proposed transaction does not involve any provision or agreement that would limit future interchange on the Line with a third-party connecting carrier. RRR certifies that its projected annual revenue will not exceed $5 million and that the proposed transaction will not result in RRR's becoming a Class I or II rail carrier.

The earliest this transaction may be consummated is July 29, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than July 22, 2022.

All pleadings, referring to Docket No. FD 36625, must be filed with the Surface Transportation Board via e-filing on the Board's website or in writing addressed to 395 E Street SW, Washington, DC 20423-0001. In addition, a copy of each pleading must be served on RRR's representative, Robert A. Wimbish, Fletcher & Sippel LLC, 29 North Wacker Drive, Suite 800, Chicago, IL 60606-3208.

According to RRR, this action is categorically excluded from environmental review under 49 CFR 1105.6(c) and from historic preservation reporting requirements under 49 CFR 1105.8(b).

Board decisions and notices are available at www.stb.gov.

Decided: July 12, 2022.
By the Board, Mai T. Dinh, Director, Office of Proceedings.
Raina White,
Clearance Clerk.

[FR Doc. 2022-15194 Filed 7-14-22; 8:45 am]

BILLING CODE 4915-01-P